DEPARTMENT OF STATE

[Delegation of Authority No. 513-1]

Delegation of the Authorities of the Secretary to Under Secretary John R. Bass

1. By virtue of the authority vested in the Secretary of State by the laws of the United States, including 22 U.S.C. 2651a, I hereby delegate to Under Secretary John R. Bass, to the extent authorized by law, all authorities and functions vested in the Secretary of State or the head of agency by any act, order, determination, delegation of authority, regulation, or executive order, now or hereafter issued. This Delegation includes all authorities and functions that have been or may be delegated or re-delegated to other Department officials but does not repeal delegations to such officials. The Secretary or Deputy Secretary may exercise any such authority or function.

2. I further delegate to Under Secretary Bass supervisory authority over individuals who report to the Deputy Secretary of State for Management and Resources.

3. This Delegation of Authority does not rescind or modify any other delegation of authority currently in force, and will expire upon the entry upon duty of an appointed Deputy Secretary of State for Management and Resources.

4. This memorandum shall be published in the Federal Register.

Dated: December 21, 2022.
Antony J. Blinken,
Secretary of State, Department of State.

[FR Doc. 2023-00095 Filed 1-5-23; 8:45 am]

BILLING CODE 4710-10-P